DEPARTMENT OF THE INTERIOR

National Park Service

General Management Plan: Lava Beds National Monument, Siskiyou and Modoc Counties, CA; Notice of Termination of the Environmental Impact Statement

SUMMARY: The National Park Service is terminating the preparation of an Environmental Impact Statement (EIS) for the General Management Plan, Lava Beds National Monument, Tulelake, California. A Notice of Intent to prepare an EIS was published in the Federal Register on July 10, 2006. The National Park Service has since determined that an Environmental Assessment (EA) rather than an EIS is the appropriate environmental documentation for the GMP; this determination includes careful consideration of all public and other agencies' comments during the scoping period. The new GMP for Lava Beds National Monument will update long-term guidance for resource management, visitor services and interpretive programming.

Background: The planning team originally scoped the GMP update as an EIS, however no concerns or issues expressed during public scoping and preliminary development of the GMP alternatives convey either the potential for controversy or identify potential significant impacts. In summer of 2007, the planning team drafted three “action” alternatives for the GMP. These preliminary alternatives explored ways to enhance long-term preservation of park resources and provide new recreational and educational opportunities. The planning team produced a newsletter and comment form to seek public input on the preliminary alternatives in winter of 2008. All feedback consistently affirmed that the planning team provided an appropriate range of future management directions for the monument. Most of the public comments on the preliminary alternatives were supportive of various aspects of the proposed “action” concepts and desired conditions.

To date, no major concerns or issues have been expressed during public involvement for the GMP that would convey the potential for public controversy. Initial analysis of the alternatives has revealed potential for neither major nor significant effects on the human environment or any potential for impairing park resources and values. Most of the potential impacts from the alternatives are expected to be negligible to moderate in magnitude. Many of the actions proposed in the GMP will have benefits to the monument's ecosystems, cultural landscapes and visitor experiences. For these reasons, the NPS determined the appropriate level of conservation planning and environmental impact analysis for the GMP is an EA.

SUPPLEMENTARY INFORMATION: The draft GMP and EA will be integrated. The combined document is expected to be distributed for a 60-day public review period by spring/summer of 2009. The NPS will notify the public by mail, Web site postings, local and regional media, and other means, to provide regularly updated information on where and how to obtain a copy of the GMP/EA, how to provide comments, and the confirmed dates and locations for local public meetings. For further information contact Dave Kruse, Superintendent, Lava Beds National Monument, 1 Indian Well Headquarters, Tulelake, CA 96134 (telephone: 530-667-8101; e-mail: Dave_Kruse@nps.gov).

Following release of the GMP/EA and due consideration of all comments as may be received, a decision regarding selection of a preferred vision for the new GMP is expected to be made in winter 2009/2010. The official responsible for the final decision is the Regional Director, Pacific West Region, National Park Service. Subsequently the official responsible for implementing the new GMP would be the Superintendent, Lava Beds National Monument.

Dated: August 14, 2008.
Cicely A. Muldoon,
Acting Regional Director.

[FR Doc. E8-24503 Filed 10-15-08; 8:45 am]

BILLING CODE 4310-70-P